NATIONAL CREDIT UNION ADMINISTRATION

Agency Information Collection Activities: Proposed Collections

AGENCY: National Credit Union Administration (NCUA).

ACTION: Notice and request for comments.

SUMMARY: The National Credit Union Administration (NCUA), as part of a continuing effort to reduce paperwork and respondent burden, invites the general public and other Federal agencies to comment on the following extensions of a currently approved collection, as required by the Paperwork Reduction Act of 1995.

DATES: Written comments should be received on or before September 5, 2023 to be assured consideration.

ADDRESSES: Interested persons are invited to submit written comments on the information collection to Mahala Vixamar, National Credit Union Administration, 1775 Duke Street, Alexandria, Virginia 22314, Suite 5067; Fax No. 703-519-8579; or Email at PRAComments@NCUA.gov.

FOR FURTHER INFORMATION CONTACT: Address requests for additional information to Mahala Vixamar at the address above or telephone 703-518-6540.

SUPPLEMENTARY INFORMATION:

OMB Number: 3133-0098.

Title: Advertising of Excess Insurance, 12 CFR 740.3.

Type of Review: Extension currently approved collection.

Abstract: Federally insured credit unions which offer or provide excess insurance coverage for their accounts must indicate the type and amount of such insurance, the name of the carrier and a statement that the carrier is not affiliated with the NCUSIF or the Federal government in all advertising that mentions account insurance.

Affected Public: Private Sector: Not-for-profit institutions.

Estimated Number of Respondents: 291.

Estimated Number of Responses per Respondent: 1.

Estimated Total Annual Responses: 291.

Estimated Hours per Response: 1.

Estimated Total Annual Burden Hours: 291.

OMB Number: 3133-0108.

Type of Review: Extension of a previously approved collection.

Title: Monitoring Bank Secrecy Act Compliance.

Abstract: The collection is needed to allow NCUA to determine whether credit unions have established a program reasonably designed to assure and monitor their compliance with current recordkeeping requirements established by Federal statute and Department of the Treasury regulation.

Affected Public: Private Sector: Not-for-profit institutions.

Estimated Number of Respondents: 5,308.

Estimated Number of Responses per Respondent: 1.

Estimated Total Annual Responses: 5,308.

Estimated Hours per Response: 16.

Estimated Total Annual Burden Hours: 84,928.

OMB Number: 3133-0117.

Type of Review: Extension of a previously approved collection.

Title: Designation of Low-Income Status, 12 CFR 701.34(a).

Abstract: The Federal Credit Union Act (12 U.S.C. 1752(5)) authorizes the NCUA Board to define low-income members so that credit unions with a membership serving predominantly low-income members can benefit from certain statutory relief and receive assistance from the Community Development Revolving Loan Fund. To utilize this authority a credit union must receive a low-income designation from NCUA as defined in NCUA's regulations at 12 CFR 701.34. NCUA uses the information from credit unions to determine whether they meet the criteria for the low-income designation.

Affected Public: Private Sector: Not-for-profit institutions.

Estimated Number of Respondents: 287.

Estimated Number of Responses per Respondent: 1.

Estimated Total Annual Responses: 287.

Estimated Hours per Response: 1.545.

Estimated Total Annual Burden Hours: 443.

OMB Number: 3133-0130.

Type of Review: Extension of a previously approved collection.

Title: Written Reimbursement Policy, 12 CFR 701.33.

Abstract: Each Federal Credit Union (FCU) must draft a written reimbursement policy to ensure that the FCU makes payments to its directors within the guidelines that the FCU has established in advance and to enable examiners to easily verify compliance by comparing the policy to the actual reimbursements.

Affected Public: Private Sector: Not-for-profit institutions.

Estimated Number of Respondents: 3,321.

Estimated Number of Responses per Respondent: 1.

Estimated Total Annual Responses: 3,321.

Estimated Burden Hours per Response: 0.50.

Estimated Total Annual Burden Hours: 1,661.

OMB Number: 3133-0203.

Type of Review: Extension of a currently approved collection.

Title: IRPS 19-1, Exceptions to Employment Restrictions Under Section 205(d) of the Federal Credit Union Act (Second Chance IRPS).

Abstract: This information collection is required under Section 205(d) of the Federal Credit Union Act (FCU Act) to allow the National Credit Union Administration (NCUA) Board to make an informed decision whether to grant a waiver of the prohibition imposed by law under Section 205(d) of the FCU Act. Section 205(d) of the FCU Act prohibits a person who has been convicted of any criminal offense involving dishonesty or breach of trust, or who has entered into a pretrial diversion or similar program in connection with a prosecution for such offense, from participating in the affairs of a federally-insured credit union except with the prior written consent of the NCUA Board. The Interpretive Ruling and Policy Statement (IRPS) 19-1 prescribes the information collection and implement the requirements of the FCU Act.

Affected Public: Private Sector: Not-for-profit institutions.

Estimated Number of Respondents: 4.

Estimated Number of Responses per Respondent: 1.

Estimated Total Annual Responses: 4.

Estimated Burden Hours per Response: 0.75.

Estimated Total Annual Burden Hours: 3.

OMB Number: 3133-0204.

Type of Review: Extension of a currently approved collection.

Title: NCUA Form 4501A.

Abstract: Sections 106 and 202 of the Federal Credit Union Act require federally insured credit unions to make financial reports to the NCUA. Section 741.6 requires insured credit unions to submit a Credit Union Profile (NCUA Form 4501A) and update the Profile with 10 days of election or appointment of senior management or volunteer officials or 30 days of other changes in Program information. The NCUA website further directs credit unions to review and certify their Profiles every Call Report cycle. Statistical information collected through the Profile is essential to NCUA supervision of federal credit unions. This information also facilitates NCUA monitoring of other credit unions with share accounts insured by the National Credit Union Share Insurance Fund (NCUSIF).

Affected Public: Private Sector: Not-for-profit institutions.

Estimated Number of Respondents: 5,281.

Estimated Number of Responses per Respondent: 4.

Estimated Total Annual Responses: 21,124.

Estimated Hours per Response: 2.

Estimated Total Annual Burden Hours: 42,248.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2023-14129 Filed 7-3-23; 8:45 am]

BILLING CODE 7535-01-P